JUDICIAL CONFERENCE OF THE UNITED STATES

Meeting of the Judicial Conference Committee on Rules of Practice and Procedure

AGENCY: Judicial Conference of the United States; Committee on Rules of Practice and Procedure.

ACTION: Notice of open meeting.

SUMMARY: The Committee on Rules of Practice and Procedure will hold a two-day meeting. The meeting will be open to the public for observation but not participation.

DATES: January 14-15, 2008.

Time: 8:30 a.m. to 5 p.m.

ADDRESSES: United States Court of Appeals, Richard H. Chambers Court of Appeals Building, Pasadena Mezzanine, 125 South Grand Avenue, Pasadena, CA 91105-1621.

FOR FURTHER INFORMATION CONTACT: John K. Rabiej, Chief, Rules Committee Support Office, Administrative Office of the United States Courts, Washington, DC 20544, telephone (202) 502-1820.

Dated: October 22, 2007.
John K. Rabiej,
Chief, Rules Committee Support Office.

[FR Doc. 07-5419 Filed 10-31-07; 8:45 am]

BILLING CODE 2210-55-M